DEPARTMENT OF DEFENSE

Department of the Army; Corps of Engineers

Notice of Intent To Operate Wolf Creek Dam, Lake Cumberland, Russell County, KY at Below Normal Pool Levels Due to Emergency Conditions and Prepare an Environmental Impact Statement

AGENCY: Department of the Army, U.S. Army Corps of Engineers, DoD.

ACTION: Notice.

SUMMARY: Pursuant to 30 CFR 230.8, the U.S. Army Corps of Engineers (Corps) is issuing this Notice to document emergency actions and set forth the steps to be taken in the future to comply with the National Environmental Policy Act (NEPA). Wolf Creek Dam impounds Lake Cumberland in south central Kentucky. Several engineering studies have identified a high level of risk at Wolf Creek Dam. Accordingly, on January 19, 2007, the Corps made the decision to take emergency action and begin lowering the lake level to ease the stress on the dam's foundation until repairs can be effected. This action has been taken to reduce risk to the public's safety and welfare. The temporary target elevation will be 680 feet above mean sea level (msl) at Wolf Creek Dam. This elevation was selected because it provides the greatest reduction in stress to the dam without creating other public health and safety concerns. This operation will be in effect until repair of the dam or new information allows the pool elevation to be raised. This pool elevation may also drop if worsening conditions create the need for even further lowering of the pool.

The Corps believes that the need for action regarding the Wolf Creek Dam is so urgent and compelling that there is no time to follow the usual NEPA procedures before the Corps makes decisions and begins to implement them. The Corps is, therefore, invoking its authority “Emergency Actions” under 33 CFR 230.8 and declaring an emergency, making decisions, and taking necessary actions accordingly. The Corps has consulted the President's Council on Environmental Quality (CEQ) regarding alternative arrangements under NEPA pursuant to 40 CFR 1506.11. This notice serves to initiate the NEPA process. The Corps plans to prepare and circulate an EIS which serves to cover any actions it deems necessary during the repair of the dam's foundation.

DATES: Written comments, concerning issues to be considered in preparing the Draft Environmental Impact Statement (DEIS), must be received by the Corps of Engineers on or before March 5, 2007.

ADDRESSES: Written comments on issues to be considered in the DEIS shall be mailed to: Chip Hall, Project Planning Branch, Nashville District Corps of Engineers, P.O. Box 1070 (PM-P), Nashville, TN 37202-1070. Comments may also be e-mailed to: Lake.Modification@lrn02.usace.army.mil.

FOR FURTHER INFORMATION CONTACT: For additional information concerning the notice, please contact Chip Hall, Environmental Analysis Team, (615) 736-7666, David Hendrix, Wolf Creek Dam Seepage Major Rehabilitation Project Manager, (615) 736-7841, or Public Affairs Office, (615) 736-7161.

SUPPLEMENTARY INFORMATION: 1. Wolf Creek Dam was designed in the 1930s, constructed in the 1940s, and completed in the early 1950s. The dam was built on a karst geology using accepted engineering practices of the day. Since the 1960s seepage through the dam's foundation has been a concern. Repairs have been implemented at various times including grout injection into the foundation and installing a diaphragm wall through about two-thirds of the earthen embankment. Those repairs are credited with saving the dam; however, some faults remained. Over the last three decades problems have increased and the dam is now classed as being in active failure mode.

2. A comprehensive plan for repairs has been approved; however, these repairs will take a number of years to implement. Until the repairs are sufficiently completed, the Corps has determined that it is in the public's interest to lower the lake levels to reduce pressure on the weakened foundations. This is necessary to ensure the public's health, safety, and welfare. The Corps recognizes, however, that doing so will have significant environmental and economic consequences in the following areas:

(1) The cold water fisheries both in the lake and tailwater;

(2) water quality throughout the Cumberland River;

(3) federally listed threatened and endangered species;

(4) designated uses of the waterway including fish and aquatic life, livestock watering and wildlife, irrigation;

(5) and economics including electric power production, municipal and industrial water supply, recreation, navigation, flood damage reduction, and disruption to communities, jobs, and other related factors.

3. Current Actions to Reduce Risk. Several actions have already been taken to reduce the risk. Prior to 2005, spring rains were captured in the reservoir to maximize downstream flood protection and hydropower generation. Beginning in 2005 the pool was managed more aggressively to reduce the peaks and adhere more closely to the prescribed guide curves. Recently 24-hour surveillance was initiated at the dam. This involves providing patrols of the dam, known wet and trouble spots, and downstream areas. Currently, the Corps is aggressively grouting the most crucial areas of the embankment to further reduce seepage under the dam. Additional coordination and exercises have been held with state and local emergency management agencies. These agencies have been provided with flood inundation maps to help coordinate emergency evacuations if needed. The Corps has improved its emergency notification procedures, increased instrumentation in and on the dam, and conducted numerous public meetings to advise the public of problems with the dam.

4. An Environmental Impact Statement (EIS) will be undertaken to review emergency actions taken and to consider other possible alternatives. Alternatives that will be considered include but are not limited to new dam construction, lowering the lake levels or otherwise altering the operational procedures, and investigating methods to increase discharge capacity.

5. This notice serves to solicit comments from the public; Federal, State and local agencies and officials; Indian tribes; and other interested parties in order to consider and evaluate impacts of these proposed activities. Any comments received by us will be considered in determining future operations. To make these decisions, comments are used to assess impacts on public health and safety, endangered species, historic properties, water quality, water supply and conservation, economics, aesthetics, wetlands, flood hazards, floodplain values, land use, navigation, shore erosion and accretion, recreation, energy needs, food and fiber production, mineral needs, considerations of property ownership, general environmental effects, and in general, the needs and welfare of the people.

6. Activities proposed that require a review under the guidelines promulgated by the Administrator, Environmental Protection Agency (EPA), under authority of Section 404(b)(1) of the Clean Water Act (40 CFR Part 230) may include fill placement for water intake extensions, and other mitigation actions.

7. Other Federal, State and local approvals that may be required for proposed work are as follows:

a. Water quality certifications from the Kentucky Division of Water and the Tennessee Department of Environment and Conservation.

b. Coordination with the U.S. Fish and Wildlife Service for the Endangered Species Act and Fish and Wildlife Coordination Act.

c. Coordination with the Kentucky Department of Fish and Wildlife Resources and the Tennessee Wildlife Resources Agency.

d. Coordination with the State Historic Preservation Officer and President's Advisory Council on Historic Preservation.

8. Significant issues to be analyzed in the DEIS include impacts to fisheries, tailwater mussel resources, water quality, recreation, navigation, economics, water supply, electric power production, economics, and community development. The U.S. Fish and Wildlife Service has agreed to be a Cooperating Agency on the DEIS and will be responsible for preparing much of the evaluations of significant natural resources. A DEIS should be available in May 2007.

9. Public Meetings: At present, no public meetings have been scheduled to scope for potential issues to be evaluated in the DEIS. Requests for public meetings should be directed to Mr. William Peoples, Chief, Public Affairs Office, U.S. Army Corps of Engineers, Nashville District, Nashville, TN 37202-1070. Mr. Peoples may be reached by telephone at (615) 736-7834.

Brenda S. Bowen,
Army Federal Register Liaison Officer.

[FR Doc. E7-1721 Filed 2-1-07; 8:45 am]

BILLING CODE 3710-GF-P